DEPARTMENT OF COMMERCE

National Oceanic and Atmospheric Administration

RIN 0648-XA359

Fisheries of the South Atlantic; South Atlantic Fishery Management Council; Public Meeting

AGENCY: National Marine Fisheries Service (NMFS), National Oceanic and Atmospheric Administration (NOAA), Commerce.

ACTION: Notice of a meeting of the Council Coordination Committee of the Fishery Management Councils.

SUMMARY: The South Atlantic Fishery Management Council (Council) will host a meeting of the Council Coordination Committee in Charleston, SC. See SUPPLEMENTARY INFORMATION.

DATES: The meeting will take place May 3-5, 2011. See SUPPLEMENTARY INFORMATION for specific dates and times.

ADDRESSES: The meeting will be held at the Doubletree Guest Suites Hotel, 181 Church St., Charleston, SC 29401; telephone: (843) 408-8733 or (843) 577-2644.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; email: kim.iverson@safmc.net.

SUPPLEMENTARY INFORMATION: Members of the Council Coordination Committee (CCC), consisting of the Regional Fishery Management Council (RFMC) chairs, vice chairs and executive directors, will meet from 1:30 p.m.-5:30 p.m. on May 3, 2011; 8 a.m.-5:30 p.m. on May 4, 2011; and 8 a.m.-1 p.m. on May 5, 2011.

Agenda

Tuesday, May 3, 2011, 1:30 p.m.-5:30 p.m.

Welcome comments and open session with Councils; Council reports on the status of implementing the Magnuson-Stevens Act provisions and other current activities of interest including: annual catch limits; ending overfishing; rebuilding plans status updates; catch shares; and the allocation of fishery resources.

Wednesday, May 4, 2011, 8 a.m.-5:30 p.m.

Members of the CCC will receive updates and discuss: Fiscal Year (FY) 2011 and FY2012 budgets and additional grant funds; performance measures status; National Environmental Policy Act (NEPA) issues; a status report on Executive Order 13563 (Improving Regulation and Regulatory Review); the National Bycatch Report; the National Catch Share Policy Status; the Marine Protected Area (MPA) network and council participation; the Marine Recreational Information Program (MRIP) and use of MRIP data for recreational in-season adjustments; and Law Enforcement issues, including NOAA General Counsel (GC) penalty schedules.

Thursday, May 5, 2011, 8 a.m.-1 p.m.

Members of the CCC will be briefed on: United States Coast Guard (USCG) issues; National Ocean Council/Coastal and Marine Spatial Planning; the National Scientific and Statistical Committee (SSC) Workshop; and Outreach efforts of NOAA Fisheries and the Regional Fishery Management Councils.

Special Accommodations

These meetings are physically accessible to people with disabilities. Requests for auxiliary aids should be directed to the council office (see ADDRESSES) 3 days prior to the meeting.

Note: The times and sequence specified in this agenda are subject to change.

Dated: April 5, 2011.
Tracey L. Thompson,
Acting Director, Office of Sustainable Fisheries, National Marine Fisheries Service.

[FR Doc. 2011-8450 Filed 4-8-11; 8:45 am]

BILLING CODE 3510-22-P